DEPARTMENT OF HEALTH AND HUMAN SERVICES

Agency for Toxic Substances and Disease Registry

[ATSDR-266]

Availability of Draft Toxicological Profile

AGENCY: Agency for Toxic Substances and Disease Registry (ATSDR), Department of Health and Human Services (DHHS).

ACTION: Notice of availability.

SUMMARY: This notice announces, for review and comment, the availability of one new draft toxicological profile on unregulated hazardous substances that was prepared for the Department of Defense (DOD). All toxicological profiles issued as “Drafts for Public Comment” represent ATSDR's best efforts to provide important toxicological information on priority hazardous substances. We are seeking public comments and additional information or reports on studies about the health effects of royal demolition explosive (RDX), chemical name hexahydro-1,3,5-trinitro-1,3,5-triazine, also known as cyclonite, for review and potential inclusion in the profile. ATSDR remains committed to providing a public comment period for these documents as a means to best serve public health and our stakeholders.

DATES: To be considered, comments on this draft toxicological profile must be received not later than November 19th, 2010. Comments received after the close of the public comment period will be considered at the discretion of ATSDR, based upon what is deemed to be in the best interest of the general public.

ADDRESSES: Requests for printed copies of the draft toxicological profile should be sent via e-mail to cdcinfo@cdc.gov, or to Ms. Olga Dawkins, Division of Toxicology and Environmental Medicine, Agency for Toxic Substances and Disease Registry, Mailstop F-62, 1600 Clifton Road, NE., Atlanta, Georgia 30333. Electronic access to this document is also available at the ATSDR Web site: http://www.atsdr.cdc.gov/toxpro2.html.

Written comments and other data submitted in response to this notice and to the draft RDX toxicological profile should bear the docket control number ATSDR-XXX. Send one copy of all comments and three copies of all supporting documents to the attention of Ms. Nickolette Roney, Division of Toxicology and Environmental Medicine, Agency for Toxic Substances and Disease Registry, Mailstop F-62, 1600 Clifton Road, NE., Atlanta, Georgia 30333, by the end of the comment period. Electronic comments may be sent via e-mail to: tppubliccomments@cdc.gov. Please include RDX in the subject line of the e-mail. Because all public comments regarding ATSDR toxicological profiles are available for public inspection, no confidential business information or other confidential information should be submitted in response to this notice.

FOR FURTHER INFORMATION CONTACT: Ms. Olga Dawkins, Division of Toxicology and Environmental Medicine, Agency for Toxic Substances and Disease Registry, Mailstop F-62, 1600 Clifton Road, NE., Atlanta, Georgia 30333, telephone (770) 488-3315. Electronic access to this document is also available at the ATSDR Web site: http://www.atsdr.cdc.gov/toxpro2.html. Comments and other data submitted in response to this notice and the draft toxicological profile should bear the docket control number ATSDR-266.

SUPPLEMENTARY INFORMATION: The Superfund Amendments and Reauthorization Act (SARA) of 1986 (Pub. L. 99-499) amended the Comprehensive Environmental Response, Compensation, and Liability Act (CERCLA or Superfund). Section 211 of SARA also amended Title 10 of the U.S. Code, creating the Defense Environmental Restoration Program. Section 2704(a) of Title 10 of the U.S. Code directs the Secretary of Defense to notify the Secretary of DHHS of not less than 25 of the most commonly found unregulated hazardous substances at defense facilities. The Secretary of DHHS is to prepare toxicological profiles of these substances. Each profile is to include an examination, summary, and interpretation of available toxicological information and epidemiologic evaluations. This information is used to ascertain the level of significant human exposure for the substance and the associated health effects. The toxicological profile includes a determination of whether adequate information on the health effects of each substance is available or is in the process of being developed. When adequate information is not available, ATSDR, in cooperation with the National Toxicology Program (NTP), may plan a program of research designed to determine these health effects.

Although a number of key studies for this substance were identified and evaluated during the draft profile development process, this Federal Register notice seeks to solicit any additional studies, particularly unpublished data and ongoing studies. These studies will be evaluated for possible addition to the profile now or in the future.

The draft toxicological profile will be made available to the public on or about August 20, 2010.

Hazardous substance | CAS No.
RDX | 121-82-4

Dated: August 20, 2010.
Kenneth Rose,
Director, Office of Policy, Planning, and Evaluation, National Center for Environmental Health/Agency for Toxic Substances and Disease Registry.

[FR Doc. 2010-21298 Filed 8-25-10; 8:45 am]

BILLING CODE 4163-70-P